DEPARTMENT OF JUSTICE

Notice of Lodging of Proposed Consent Decree Under the Comprehensive Environmental Response, Compensation and Liability Act

On November 5, 2014, the Department of Justice lodged a proposed consent decree with the United States District Court for the Eastern District of Missouri in the lawsuit entitled United States and State of Missouri v. Cyprus Amax Minerals Company and Missouri Lead Smelting Company, Civil Action No. 14-1876-HEA.

The United States and the State of Missouri sued the defendants under Section 107 of the Comprehensive Environmental Response, Compensation and Liability Act (“CERCLA”), 42 U.S.C. 9607, section 311 of the Clean Water Act, 33 U.S.C. 1321, and MO. REV. STAT. § 644.096 of the Missouri Clean Water law for recovery of natural resource damages resulting from releases of hazardous substances from the Buick Mine and Mill and the Buick Smelter, located near the town of Bixby in Southeast Missouri's Viburnum Trend. The consent decree resolves the action. Under the decree, defendants Cyprus Amax Minerals Company and Missouri Lead Smelting Company will pay $7,284,677.00 in natural resource damages. In return, the United States, by and through the Fish Wildlife Service of the United States Department of the Interior, and the Department of Agriculture, Forest Service; and the State of Missouri, will grant covenants not to sue the defendants for natural resource damages, subject to the terms of the decree.

The publication of this notice opens a period for public comment on the proposed consent decree. Comments should be addressed to the Assistant Attorney General, Environment and Natural Resources Division, and should refer to United States v. Cyprus Amax Minerals Company, D.J. Ref. No. 90-11-3-09424/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $5.50 (25 cents per page reproduction cost) payable to the United States Treasury.

Susan Akers,
Assistant Section Chief, Environmental Enforcement Section, Environment and Natural Resources Division.

[FR Doc. 2014-27061 Filed 11-14-14; 8:45 am]

BILLING CODE 4410-15-P